NATIONAL AERONAUTICS AND SPACE ADMINISTRATION

[Notice 05-067]

NASA Advisory Council; Meeting

AGENCY: National Aeronautics and Space Administration.

ACTION: Notice of meeting.

SUMMARY: In accordance with the Federal Advisory Committee Act, Public Law 92-463, as amended, the National Aeronautics and Space Administration announces a meeting of the NASA Advisory Council (NAC).

DATES: Wednesday, April 20, 2005, 8:30 a.m. to 5 p.m., and Thursday, April 21, 2005, 9 a.m. to 1 p.m.

ADDRESSES: National Aeronautics and Space Administration, 300 E Street, SW., Room MIC-7H46, Overflow Room, MIC-6H46, Washington, DC 20546.

FOR FURTHER INFORMATION CONTACT: Ms. Kathy Dakon, National Aeronautics and Space Administration, Washington, DC 20546, (202) 358-0732.

SUPPLEMENTARY INFORMATION: The meeting will be open to the public up to the seating capacity of the room. The agenda for the meeting is as follows:

—Committee reports

—Agency roadmap activities

—Planning for August 2005 NAC summer study on integrated roadmap recommendations

Attendees will be requested to sign a register and to comply with NASA security requirements, including the presentation of a valid picture ID, before receiving an access badge. Foreign nationals attending this meeting will be required to provide the following information: Full name; gender; date/place of birth; citizenship; visa/green card information (number, type, expiration date); employer/affiliation information (name of institution, address, county, phone); and title/position of attendee. To expedite admittance, attendees can provide identifying information in advance by contacting Ms. Marla K. King via email at marla.k.king@nasa.gov or by telephone at (202) 358-1148. Persons with disabilities who require assistance should indicate this. It is imperative that the meeting be held on this date to accommodate the scheduling priorities of the key participants.

Michael F. O'Brien,
Assistant Administrator for External Relations.

[FR Doc. 05-6662 Filed 4-4-05; 8:45 am]

BILLING CODE 7510-13-P